DEPARTMENT OF VETERANS AFFAIRS

Advisory Committee on Former Prisoners of War; Notice of Meeting

The Department of Veterans Affairs (VA) gives notice under Public Law 92-463 (Federal Advisory Committee Act) that the Advisory Committee on Former Prisoners of War has scheduled a meeting for October 27-29, 2008, in Jackson, Mississippi. On October 27-28, the meeting will be held at the Sonny Montgomery Veterans Affairs Medical Center, 1500 E. Woodrow Wilson Drive. On October 29, it will be held at the Hilton-Jackson Hotel, 1001 E. County Line Road. The meeting will be held each day from 9 a.m. to 4 p.m. The meeting is open to the public.

The purpose of the Committee is to advise the Secretary of Veterans Affairs on the administration of benefits under Title 38, United States Code, for veterans who are former prisoners of war, and to make recommendations on the needs of such veterans for compensation, health care, and rehabilitation.

The meeting will begin with remarks from dignitaries, a review of committee reports, and an update of activities since the last meeting. A town hall meeting will be held on October 27 at 1:30 p.m. On October 28, the Committee will hear presentations from representatives of the Robert E. Mitchell Center for Prisoner of War Studies and the VA Employee Education System. The day will conclude with new business and general discussion. On October 29, the Committee's medical and administrative work groups will meet to discuss their activities and then will report back to the Committee in the afternoon. Additionally, the Committee will review comments discussed throughout the meeting to compile a report to be sent to the Secretary.

Members of the public may submit written statements for review by the Committee in advance of the meeting to Mr. Bradley G. Mayes, Director, Compensation and Pension Service, Department of Veterans Affairs, 810 Vermont Avenue, NW., Washington, DC 20420. Submitted materials must be received by October 15, 2008.

Dated: September 29, 2008.
By Direction of the Secretary.
E. Philip Riggin,
Committee Management Officer.

[FR Doc. E8-23441 Filed 10-2-08; 8:45 am]

BILLING CODE 8320-01-P